DEPARTMENT OF ENERGY

Federal Energy Regulatory Commission

[Project No. 12455-004]

Borough of Leighton, PA, Notice of Application Ready for Environmental Analysis and Soliciting Comments, Recommendations, Terms and Conditions, and Prescriptions

August 3, 2007.

Take notice that the following hydroelectric license application has been filed with the Commission and is available for public inspection.

a. Type of Application: Original License.

b. Project No.: 12455-004.

c. Date Filed: December 29, 2006.

d. Applicant: Borough of Leighton, Pennsylvania.

e. Name of Project: Beltzville Hydroelectric Project.

f. Location: The project would be connected to the U.S. Army Corps of Engineers' Beltzville Dam, located on Pohopoco Creek, in the Borough of Leighton, Carbon County, Pennsylvania.

g. Filed Pursuant to: The Federal Power Act, 16 U.S.C. 791(a)-825(r).

h. Applicant Contact: Mr. John Hanosek, P.E., Borough manager, P.O. Box 29, Municipal Building, Second and South Street, Leighton, PA 18235, (610) 377-4002.

i. FERC Contact: Jack Hannula, (202) 502-8917 or john.hannula@ferc.gov.

j. Deadline for filing comments, recommendations, terms and conditions, and prescriptions: 60 days from the issuance date of this notice; reply comments are due 105 days from the issuance date of this notice.

All documents (original and eight copies) should be filed with: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See CFR 385.2001(a)(1)(iii) and the instructions on the Commission's Web site (http://www.ferc.gov) under the “eFiling” link.

k. This application has been accepted, and is ready for environmental analysis at this time.

l. Description of Project: The project would be located on the downstream side of the existing Corps of Engineers Beltzville Dam consisting of: (1) A 175-foot-high, 4,600-foot-long earth-fill dam with a 23-foot-high, 2,000-foot-long un-gated concrete spillway impounding; (2) a 949-acre reservoir with a normal water surface elevation of 628.0 feet mean sea level with; (3) a 193-foot-high; 72-foot-long, 42-foot-wide water intake tower equipped with four flood control service gates and 8 water quality portals with gates connected to; (4) a 7-foot-diameter, 1,175-foot-long conduit leading to; (5) a 110-foot-long, 34-foot-wide stilling basin.

The proposed Beltzville Hydroelectric Project would consist of: (1) An existing 84-inch conduit that would be modified to include; (2) a new 78-inch-diameter steel pipe liner equipped with a 78-inch butterfly valve and 84-inch slide gate; (3) an existing 16-inch-diameter, 36-foot-long bypassed flow penstock; (4) a new 60-inch diameter, 37-foot-long Y-branch penstock that bifurcates into a 36-inch-diameter, 43-foot-long penstock and a 48-inch-diameter, 39-foot-long penstock leading to; (5) a new powerhouse containing a 1,700 kilowatt (kW) and a 900 kW generating units for a total installed capacity of 2,600 kW; (6) a 300-foot-long, 12-kilovolt transmission line; and (7) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h. above.

All filings must: (1) Bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscribenow.asp to be notified via e-mail of new filings and issuances related to this or other pending projects. For assistance, contact FERC Online Support.

n. Procedural schedule: The Commission staff proposes to issue a single Environmental Assessment (EA) rather than issuing a draft and final EA. Staff intends to allow at least 30 days for entities to comment on the EA, and will take into consideration all comments received on the EA before final action is taken on the license application. The application will be processed according to the following schedule, but revisions to the schedule may be made as appropriate:

Issue Notice of availability of the EA: January 2008.

Final amendments to the application must be filed with the Commission no later than 30 days from the issuance date of the notice of ready for environmental analysis.

o. The license applicant must file no later than 60 days following the date of issuance of this notice: (1) A copy of the water quality certification; (2) a copy of the request for certification, including proof of the date on which the certifying agency received the request; or (3) evidence of waiver of water quality certification.

Kimberly D. Bose,
Secretary.

[FR Doc. E7-15629 Filed 8-9-07; 8:45 am]

BILLING CODE 6717-01-P